FEDERAL COMMUNICATIONS COMMISSION

47 CFR Part 9

[PS Docket Nos. 20-291 and 09-14; Report No. 3184; FR ID 63299]

Petitions for Reconsideration of Action in Rulemaking Proceeding

AGENCY: Federal Communications Commission.

ACTION: Petition for Reconsideration.

SUMMARY: Petitions for Reconsideration (Petitions) have been filed in the Commission's rulemaking proceeding by Joseph P. Benkert on behalf of the Boulder Emergency Telephone Service Authority (BRETSA), and by Scott Newman on behalf of the City of Aurora 911 Authority, et al.

DATES: Oppositions to the Petitions must be filed on or before January 6, 2022. Replies to an opposition must be filed on or before January 18, 2022.

ADDRESSES: Federal Communications Commission, 45 L Street NE, Washington, DC 20554.

FOR FURTHER INFORMATION CONTACT: Brenda Boykin, Policy and Licensing Division, Public Safety and Homeland Security Bureau, at (202) 418-2062 or Brenda.Boykin@fcc.gov.

SUPPLEMENTARY INFORMATION: This is a summary of the Commission's document, Report No. 3184, released December 15, 2021. The full text of the Petitions may be accessed online via the Commission's Electronic Comment Filing System at: https://www.fcc.gov/ecfs/. The Commission will not send a Congressional Review Act (CRA) submission to Congress or the Government Accountability Office pursuant to the CRA, 5 U.S.C. 801(a)(1)(A), because no rules are being adopted by the Commission.

Subject: 911 Fee Diversion; New and Emerging Technologies 911 Improvement Act of 2008, Report and Order, FCC 21-80, published at 86 FR 45892, August 17, 2021, in PS Docket Nos. 20-291 and 09-14. This document is being published pursuant to 47 CFR 1.429(e). See also 47 CFR 1.4(b)(1) and 1.429(f), (g).

Number of Petitions Filed: 2.

Federal Communications Commission.
Katura Jackson,
Federal Register Liaison Officer.

[FR Doc. 2021-27721 Filed 12-21-21; 8:45 am]

BILLING CODE 6712-01-P